DEPARTMENT OF HOMELAND SECURTY

Federal Emergency Management Agency

44 CFR Part 67

[Docket No. FEMA-B-7435]

Proposed Flood Elevation Determinations

AGENCY: Federal Emergency Management Agency, Emergency Preparedness and Response Directorate, Department of Homeland Security.

ACTION: Proposed rule.

SUMMARY: Technical information or comments are requested on the proposed Base (1% annual chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the following table.

FOR FURTHER INFORMATION CONTACT: Mary Jean Pajak, Federal Emergency Management Agency, 500 C Street SW., Washington, DC 20472, (202) 646-2831.

SUPPLEMENTARY INFORMATION: The Federal Emergency Management Agency proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Mitigation Division Director of the Emergency Preparedness and Response Directorate certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376, § 67.4

2. The tables published under the authority of § 67.4 are proposed to be amended as follows:

State | City/town/county | Source of flooding | Location | #Depth in feet above ground. *Elevation in feet. (NGVD): Existing | #Depth in feet above ground. *Elevation in feet. (NGVD): Modified
Arizona | Gila County | Bloody Tanks Wash | Just upstream of Mine Road | None | *3,310
|  |  | Just upstream of New Street | None | *3,357
|  |  | Approximately 1,700 feet upstream of Southern Pacific Railroad Crossing | *3,402 | *3,398
|  | Coyote Wash | At confluence with Russell Gulch | None | *3,445
|  |  | Approximately 2,400 feet upstream of Russell Road | None | *3,643
|  | Ice House Canyon | At Pubblo Ruins Road | None | *3,600
|  |  | Just upstream of Pinal View Road | None | *3,670
|  |  | At confluence of Kellner Canyon | None | *3,781
|  | Kellner Canyon | At confluence with Ice House Canyon | None | *3,781
|  |  | Approximately 250 feet upstream of Kellner Canyon Road | None | *3,855
|  | McMillen Wash | Just downstream of 7th Street | None | *3,580
|  | Pina Creek (at Globe) | Approximately 2,400 feet downstream of U.S. 60/70 | None | *3,417
|  |  | Just upstream of Pickson Drive | None | *3,633
|  |  | Approximately 3,400 feet upstream of Six Shooter Canyon Road | None | *3,809
|  | Roberts Wash | At confluence with Russell Gulch | None | *3,348
|  |  | Approximately 300 feet upstream of Roberts Road | None | *3,429
|  | Russell Gulch | Approximately 800 feet downstream of U.S. Route 60/70 | None | *3,304
|  |  | Confluence of Coyote Wash | None | *3,444
|  |  | Approximately 5,000 feet upstream of the confluence of Coyote Wash | None | *3,563
|  | Watertank Wash | At confluence with Russell Gulch | None | *3,352
|  |  | Just upstream of Landfill Lane | None | *3,432
|  |  | Approximately 5,400 feet upstream of Landfill Lane | None | *3,681
Depth in feet above ground
Maps are available for inspection at the Gila County Courthouse, 1400 East Ash Street, and at the Library Office First Floor Planning and Zoning Counter, Globe, Arizona 85501.
Send comments to The Honorable Cruz Salas, Chairman of the Gila County Board of Supervisors, 1400 East Ash Street, Globe, Arizona 85501.
Arizona | Miami (Town), Gila County | Bloody Tanks Wash | Approximately 850 feet upstream of Southern Pacific Railroad Crossing | 3,402 | *3,381
|  |  | Approximately 500 feet upstream of Live Oak Street | *3,380 | *3,398
|  |  | Approximately 1,700 feet upstream of Southern Pacific Railroad Crossing | *3,444 | *3,444
Depth in feet above ground
Maps are available for inspection at the Town of Miami Town Hall, 500 Sullivan Street, and at the Memorial Library 1052 Adonis Avenue, Miami, Arizona 85539.
Send comments to The Honorable Cruz Salas, Chairman of the Gila County Board of Supervisors, 1400 East Ash Street, Globe, Arizona 85501.
Arizona | Globe (City), Gila County | Ice House Canyon | At confluence with Pinal Creek (at Globe) | None | *3,578
|  |  | Approximately 100 feet upstream of Public Ruins Road | None | *3,602
|  | McMillen Wash | At confluence with Pinal Creek (at Globe) | None | *3,539
|  |  | Just upstream of U.S. Route 60/70 | None | *3,625
|  |  | Just downstream of W. Mesquite Street | None | *3,768
|  | Pinal Creek (at Globe) | Approximately 200 feet upstream of Ruiz Canyon Road | *3,539 | *3,539
|  |  | Approximately 1,200 feet upstream of the confluence of Ice House Canyon | None | *3,592
|  | Russell Gulch | Just downstream of Hospital Drive | None | *3,324
|  |  | At confluence of Roberts Wash | None | *3,347
|  |  | Approximately 1,000 feet upstream of the confluence of Watertank Wash | None | *3,363
|  | Watertank Wash | Approximately 4,000 feet upstream of Landfill Lane | None | *3,602
|  |  | Approximately 4,500 feet upstream of Landfill Lane | None | *3,630
Depth in feet above ground
Maps are available for inspection at the City of Globe City Hall, 150 North Pine Street, and at the Public Library, 339 South Broad Street, Globe, Arizona 85501.
Send comments to The Honorable Stanley Gibson, Mayor of the City of Globe, 150 North Pine Street, Globe, Arizona 85501.
Arizona | La Paz County | Centennial Wash | Approximately 3,100 feet downstream from the confluence of Tributary A Wenden | *1,837 | *1,837
|  |  | Approximately 3,700 feet upstream of Atchison, Topeka and Santa Fe Railroad | *1,882 | *1,884
|  | Tributary B at Wenden | Approximately 1,800 feet upstream of the Atchison, Topeka and Santa Fe Railroad | *1,865 | *1,865
|  |  | Approximately 7,800 feet upstream of the Atchison, Topeka and Santa Fe Railroad | None | *1,910
Depth in feet above ground
Maps are available for inspection at the Community Development Department, 1112 Joshua Avenue # 202, Parker, Arizona 85344.
Send comments to The Honorable Clifford Edey, Chairperson, La Paz County Board of Supervisors, 1108 Joshua Avenue, Parker, Arizona 85344.
Arizona | Navajo County | Mexican Lake Outlet | Approximately 800 feet downstream of Abandoned Railroad | None | *5,934
|  |  | Approximately 1,250 feet upstream of Abandoned Railroad | None | *5,979
|  | Mexican Lake | At Mexican Lake | None | *5,979
|  | White Mountain Lake | At White Mountain Lake | None | *5,979
|  | Rocky Arroyo | Approximately 1,000 feet downstream of Silver Creek Drive | None | *5,980
|  |  | Approximately 3,900 feet upstream of Silver Creek Drive | None | *6,084
|  | Lower Silver Creek | Approximately 5,140 feet downstream of unnamed Road | *5,642 | *5,638
|  |  | Approximately 150 feet downstream of the confluence With Show Low Creek | *5,661 | *5,659
|  | Upper Silver Creek | Approximately 2,050 feet downstream of Silver Lake Boulevard | None | *5,980
|  |  | Approximately 450 feet downstream of Bourdon Rande Road | None | *6,107
Depth in feet above ground
Maps are available for inspection at the Flood Control Division, County Governmental Complex, 100 East Carter Drive, Holbrook, Arizona 86025.
Send comments to The Honorable Percy Deal, Chairman of the Board of Supervisors, P.O. Box 668, Holbrook, Arizona 86025.
Arizona | Taylor (Town) | Lower Silver Creek | Approximately 3,700 feet upstream of Willow Lane | *5,627 | *5,625
| Navajo County |  | Approximately 23,100 feet upstream of Willow Lane | *5,647 | *5,644
Depth in feet above ground
Maps are available for inspection at the Town Hall, 425 West Bull Duck Road, Taylor, Arizona 85939.
Send comments to The Honorable Floyd Fuentes, Mayor of the Town of Taylor, P.O. Box 158, Taylor, Arizona 85939.
California | San Luis Obispo County | Los Berros Creek | Approximately 750 feet downstream of El Conpo Road | *103 | *103
|  |  | Approximately 4,000 feet downstream of State Route 101 | None | None
|  |  | Approximately 1,200 feet upstream of State Route 101 | None | None
Depth in feet above ground
Maps are available for inspection at the San Luis Obispo County Public Works Department, County Government Center, Room 207, 976 Osos Street, San Luis Obispo, California 93408.
Send comments to The Honorable Michael Ryan, Chairperson of the San Luis Obispo County Board of Supervisors, County Government Center, Room 370, San Luis Obispo, California 93408.
California | Santa Barbara County | Atasicadero Creek | Approximately 4,400 feet downstream of Patterson Avenue | None | *14
|  |  | Approximately 2,850 feet upstream of Arroyo Road | *83 | *83
|  | Maria Ygnacia Creek | At confluence with Atascadero Creek | None | *27
|  |  | Approximately 1,400 feet upstream of San Marcos Road | None | *158
|  | East Fork Maria Ygnacia Creek | At the confluence with Maria Ygnacia Creek | None | *154
|  |  | Approximately 1,450 feet upstream of a private bridge | None | *250
|  | San Antonio Creek | At the confluence with Maria Ygnacia Creek | None | *68
|  |  | Approximately 500 feet upstream of Cathedral Oaks Road | None | *165
Depth in feet above ground
Maps are available for inspection at the Flood Control District Office, 123 Anapamu Street, Santa Barbara, California 93101.
Send comments to The Honorable Naomi Schwartz, Chairperson of the Santa Barbara County Board of Supervisors, 105 East Anapamu Street, Santa Barbara, California 93101.
Colorado | Erie (Town), Boulder and Weld Counties | Coal Creek | At confluence of Boulder Cotton No. 1 Ditch | *5,043 | +5,046
|  |  | At Tri- County Airport | *5,080 | +5,083
Depth in feet above ground
Maps are available for inspection at the Town of Erie Town Hall, 645 Holbrook Street, Erie, Colorado 80516.
Send comments to The Honorable Barbara Connor, Mayor, Town of Erie, P.O. Box 750, Erie, Colorado 80516.

Flooding source(s) | Location of referenced elevation | Elevation in feet *(NGVD) Elevation in feet +(NAVD): Effective | Elevation in feet *(NGVD) Elevation in feet +(NAVD): Modified | Communities affected
Aurora County, and Incorporated Areas
Skunk Creek | Approximately 200 feet downstream of the 1st Street Bridge | None | +1,510 | Fresno County (Unincorporated Areas), City of Plankinton
| At State Street | None | +1,524
| Approximately 150 feet downstream of Interstate 90 | None | +1,529
Northwest Drainage | At Main Street | None | +1,517 | City of Plankinton
| Approximately 500 feet upstream of Kimball Street Bridge | None | +1,522
# Depth in feet above ground
ADDRESSES
Aurora County (Unincorporated Areas):
Maps are available for inspection at 401 North Main Street, Plankinton, South Dakota 57368.
Send comments to The Honorable Delayne Perrson, Chairperson of the Aurora County Board of Commissioners, P.O. Box 513, Plankinton, South Dakota 57368.
City of Plankinton:
Maps are available for inspection at City Hall, 125 North Main Street, Plankinton, South Dakota 57368.
Send comments to the Honorable Leroy Greenwold, Mayor of the City of Plankinton, P.O. Box 517, Plankinton, South Dakota 57368.
Hughes County, and Incorporated Areas
Missouri River | Approximately 8 miles downstream from the confluence with Hilgers Gulch | None | +1,425 | Hughes County (Unincorporated Areas), City of Pierre
| Approximately 3 miles upstream of the confluence with Whisky Gulch | None | +1,431
# Depth in feet above ground
ADDRESSES
Hughes County (Unincorporated Areas):
Maps are available for inspection at City Hall, 222 East Dakota Avenue, Pierre, South Dakota 57501.
Send comments to the Honorable Roger Inman, Chairman of the Hughes County Board of Commissioners, 104 East Capitol Avenue, Pierre, South Dakota 57501
City of Pierre:
Maps are available for inspection at City Hall, 222 East Dakota Avenue, Pierre, South Dakota 57501.
Send comments to the Honorable Dennis Eisnach, Mayor of the City of Pierre, P.O. Box 1253, Pierre, South Dakota 57501.
Stanley County, and Incorporated Areas
Missouri River | Approximately 8 miles downstream from the confluence with the Bad River | None | +1,425 | Stanley County (Unincorporated Areas), City of Fort Pierre
| Approximately 4 miles upstream of the confluence with the Bad River | None | +1,431
# Depth in feet above ground
ADDRESSES
Stanley County (Unincorporated Areas):
Maps are available for inspection at 8 East Second Avenue, Fort Pierre, South Dakota 57532.
Send comments to the Honorable Robert Wilcox, Chairman of the Stanley County Board of Commissioners, P.O. Box 595, Fort Pierre, South Dakota 57532.
City of Fort Pierre:
Maps are available for inspection at 8 East Second Avenue, Fort Pierre, South Dakota 57532.
Send comments to the Honorable Sam Tidball, Mayor of the City of Fort Pierre, P.O. Box 700, Fort Pierre, South Dakota 57532.
King County, and Incorporated Areas
Issaquah Creek | Approximately 1,700 feet downstream of Southeast 56th Street | *46 | *45 | King County (Unincorporated Areas), City of Issaquah
| Approximately 3,200 feet upstream of Sycamore Drive | *141 | *140
East Fork Issaquah Creek | At confluence with Issaquah Creek | *73 | *75 | City of Issaquah
| Just downstream of Interstate Highway 90 | None | *153
Gilman Boulevard | Approximately 640 feet downstream of 10th Avenue Northwest | None | *56 | City of Issaquah
Overflow Issaquah Creek | Approximately 1,000 feet upstream of 7th Avenue Northwest | None | *64
# Depth in feet above ground
ADDRESSES
King County (Unincorporated Areas):
Maps are available for inspection at the Water and Land Department Flood Hazard Division, 201 South Jackson Street, Suite 600, Seattle, Washington 98104-3855.
Send comments to the Honorable Ron Sims, King County Executive, 516 Third Avenue, Suite 400, Seattle, Washington 98104.
City of Issaquah:
Maps are available for inspection at the City Hall Department of Public Works, 1775 12th Avenue N.W., Issaquah, Washington 98027.
Send comments to the Honorable Ava Frisinger, Mayor of the City of Issaquah, 130 East Sunset Way, Issaquah, Washington 98027
Natrona County, and Incorporated Areas
Casper Creek | Approximately 300 feet upstream from the confluence with North Platte River | *5,116 | *5,116 | Natrona County (Unincorporated Areas), Town of Mills
| Approximately 4 miles upstream of State Highway 26 (West Chase Road) | *5,198 | *5,199
Eastdale Creek | Approximately 1,250 feet downstream of East Yellowstone Highway | None | *5,103 | Natrona County (Unincorporated Areas), City of Casper
| Approximately 100 feet downstream of Wyoming Boulevard | None | *5,482
East Branch Eastdale Creek | At the confluence with Eastdale Creek | None | *5,292 | Natrona County (Unincorporated Areas)
| Just downstream of Wyoming Boulevard | None | *5,480
Elkhorn Creek | At the confluence with the North Platte River | None | *5,077 | Natrona County (Unincorporated Areas), Town of Evansville, City of Casper
| Approximately 4,500 feet upstream of Interstate 25 | None | *5,184
| Approximately 6,500 feet upstream of Spring Creek Branch Road | None | *5,972
Garden Creek | Approximately 100 feet upstream of Garden Creek Road | *5,619 | *5,619 | Natrona County (Unincorporated Areas)
| Approximately 1,700 feet upstream of Garden Creek Road | None | *6,313
Garden Creek, West Branch | At the confluence with Garden Creek | None | *5,684
| Approximately 2,300 feet upstream of Garden Creek Road | None | *6,634 | Natrona County (Unincorporated Areas)
North Platte River | Approximately 800 feet upstream of U.S. Highway 20 and 26 | None | *5,116
| Approximately 2,000 feet upstream of Wyoming Boulevard | None | *5,120 | Town of Mills
# Depth in feet above ground
ADDRESSES
Unincorporated Areas of Natrona County:
Maps are available for inspection at the Natrona County Annex, 120 West First Street, Suite 200, Casper, Wyoming 82601.
Send comments to the Honorable John Campbell, Chairman of the Natrona County Board of Supervisors, 200 North Center, Casper, Wyoming, 82601.
Town of Evansville:
Maps are available for inspection at the Evansville Town Hall, 235 Curtis Street, Evansville, Wyoming 82636.
Send comments to the Honorable Barney Humphrey, Mayor of the Town of Evansville, P.O. Box 158, Evansville, Wyoming 82636.
City of Casper:
Maps are available for inspection at City Hall, 200 North David Street, Casper, Wyoming 82601.
Send comments to the Honorable Barbara A. Peryam, Mayor of the City of Casper, 200 North David Street, Room 201, Casper, Wyoming 82601.
Town of Mills:
Maps are available for inspection at the Town of Mills Town Hall, 704 4th Street, Mills, Wyoming 82601.
Send comments to the Honorable Robert Goff, Mayor of the Town of Mills, P.O. Box 789, Mills, Wyoming 82644.

(Catalog of Federal Domestic Assistance No. 83.100, “Flood Insurance”)
Dated: April 30, 2003.
Anthony S. Lowe,
Mitigation Division Director, Emergency Preparedness and Response Directorate.

[FR Doc. 03-11104 Filed 5-5-03; 8:45 am]

BILLING CODE 6718-04-P